DEPARTMENT OF ENERGY

Federal Energy Regulatory Commission

Combined Notice of Filings #1

November 3, 2008.

Take notice that the Commission received the following electric corporate filings:

Docket Numbers: EC09-12-000.

Applicants: MACH Gen, LLC, New Covert Generating Company, LLC,TPF II Convert Holdings, LLC.

Description: MACH Gen, LLC et al. submits an application for approvals of the transfer from MACH Gen to buyer of all of the membership interests in New Covert.

Filed Date: 10/30/2008.

Accession Number: 20081103-0067.

Comment Date: 5 p.m. Eastern Time on Thursday, November 20, 2008.

Take notice that the Commission received the following exempt wholesale generator filings:

Docket Numbers: EG09-9-000.

Applicants: Pasco Cogen Ltd.

Description: Notice of Self-Certification of Exempt Wholesale Generator Status.

Filed Date: 10/31/2008.

Accession Number: 20081031-5117.

Comment Date: 5 p.m. Eastern Time on Friday, November 21, 2008.

Take notice that the Commission received the following electric rate filings:

Docket Numbers: ER97-3561-006; ER98-3771-002; ER00-1737-012; ER00-2839-006; ER04-834-005; ER96-2869-014; ER02-1342-004; ER97-30-007; ER99-1432-010; ER99-1695-012; ER01-2763-002; ER00-3621-010; ER01-468-009; ER05-34-006; ER05-35-006; ER05-36-006; ER05-37-006; ER04-318-005; ER04-249-006; ER02-23-012; ER07-1306-005.

Applicants: Virginia Electric and Power Company; State Line Energy, L.L.C.; Kincaid Generation, L.L.C.; Elwood Energy, LLC; Dominion Nuclear Connecticut, Inc.; Dominion Energy Marketing, Inc.; Dominion Energy New England, Inc.; Dominion Energy Salem Harbor, LLC; Dominion Energy Brayton Point, LLC; Dominion Energy Manchester Street, Inc.; Dominion Energy Kewaunee, Inc.; Dominion Retail, Inc.; Fairless Energy, LLC; NedPower Mount Storm, LLC.

Description: Amended Notice of Change in Status under Order No. 697-A of Virginia Electric and Power Company, et al.

Filed Date: 10/31/2008.

Accession Number: 20081031-5154.

Comment Date: 5 p.m. Eastern Time on Friday, November 21, 2008.

Docket Numbers: ER01-316-030.

Applicants: ISO New England Inc.

Description: ISO New England submits its Index of Customers for the third quarter of 2008 under the ISO's Tariff for Transmission Dispatch and Power Administration Services.

Filed Date: 10/30/2008.

Accession Number: 20081031-0054.

Comment Date: 5 p.m. Eastern Time on Thursday, November 20, 2008.

Docket Numbers: ER05-168-010; ER06-274-015; EL05-19-011.

Applicants: Southwestern Public Service Company.

Description: Amendment No. 5 to Offer of Settlement & Settlement Agreement With Southwestern Public Service Company, Golden Spread Electric Cooperative, Inc. & Lyntegar Electric Cooperative, Inc. & Occidental Permian Ltd. & Occidental Power Marketing, L.P.

Filed Date: 10/31/2008.

Accession Number: 20081031-5146.

Comment Date: 5 p.m. Eastern Time on Friday, November 21, 2008

Docket Numbers: ER09-239-000.

Applicants: California Independent System Operator Corp.

Description: California Independent System Operator Corp submits proposed tariff revisions, in compliance with FERC's 9/21/06 Order.

Filed Date: 10/31/2008.

Accession Number: 20081103-0188.

Comment Date: 5 p.m. Eastern Time on Friday, November 21, 2008.

Docket Numbers: ER07-188-006.

Applicants: Duke Energy Carolinas, LLC.

Description: Change in Status re Duke Energy Carolinas, LLC.

Filed Date: 10/30/2008.

Accession Number: 20081030-5112.

Comment Date: 5 p.m. Eastern Time on Thursday, November 20, 2008.

Docket Numbers: ER08-1233-001.

Applicants: Public Service Electric and Gas Company.

Description: Public Service Electric and Gas Company submits revised tariff sheets in Attachment H-10B to PJM Interconnection, LLC open access transmission tariff etc.

Filed Date: 10/30/2008.

Accession Number: 20081031-0055.

Comment Date: 5 p.m. Eastern Time on Thursday, November 20, 2008.

Docket Numbers: ER08-1336-001.

Applicants: Energy Systems North East, LLC.

Description: Refund Report of Energy Systems North East, LLC.

Filed Date: 10/31/2008.

Accession Number: 20081031-5107.

Comment Date: 5 p.m. Eastern Time on Friday, November 21, 2008.

Docket Numbers: ER08-1339-002.

Applicants: PJM Interconnection, L.L.C.

Description: PJM Interconnection, L.L.C. submits revised service agreements with Duquesne Light Company et al. concerning the payment arrangements for capacity previously committed etc.

Filed Date: 10/30/2008.

Accession Number: 20081103-0070.

Comment Date: 5 p.m. Eastern Time on Thursday, November 20, 2008.

Docket Numbers: ER08-1345-002.

Applicants: PJM Interconnection, L.L.C.

Description: PJM Interconnection, LLC submits revised service agreements with the Midwest ISO concerning the use of capacity committed to serve the needs of loads in the transmission zone of the Duquesne etc.

Filed Date: 10/30/2008.

Accession Number: 20081103-0072.

Comment Date: 5 p.m. Eastern Time on Thursday, November 20, 2008.

Docket Numbers: ER08-1436-001.

Applicants: Northeast Utilities Service Company.

Description: The Connecticut Light and Power Company informs FERC that they submitted for filing with the FERC an Amended Interconnection Agreement between CL&P and Capital District Energy Center Cogeneration Associates etc.

Filed Date: 10/30/2008.

Accession Number: 20081031-0056.

Comment Date: 5 p.m. Eastern Time on Thursday, November 20, 2008.

Docket Numbers: ER09-146-001.

Applicants: ISO New England Inc.

Description: ISO New England Inc. submits a corrected version of page 5 of the 2009 Capital Budget transmittal letter, a corrected version of page 7 of Vamsi Chadalavada's testimony and an updated affirmation supporting the accuracy etc.

Filed Date: 10/30/2008.

Accession Number: 20081103-0071.

Comment Date: 5 p.m. Eastern Time on Thursday, November 20, 2008.

Docket Numbers: ER09-163-000.

Applicants: California Power Exchange Corporation.

Description: California Power Exchange Corporation submits the rate case settlement agreement along with the testimony of David K. Gottlieb, etc for rate period 1/1/09 through 6/30/09.

Filed Date: 10/30/2008.

Accession Number: 20081031-0050.

Comment Date: 5 p.m. Eastern Time on Thursday, November 20, 2008.

Docket Numbers: ER09-164-000.

Applicants: Wisconsin Public Service Corporation.

Description: Wisconsin Public Service Corporation submits revised service agreements between WPSC and Manitowoc Public Utilities and WPSC and Upper Peninsula Power Company.

Filed Date: 10/30/2008.

Accession Number: 20081031-0051.

Comment Date: 5 p.m. Eastern Time on Thursday, November 20, 2008.

Docket Numbers: ER09-165-000.

Applicants: Wisconsin Public Service Corporation.

Description: Wisconsin Public Service Corporation submits a revised rate schedule sheet in Exhibit G to its Rate Schedule 51 with the City of Marshfield.

Filed Date: 10/30/2008.

Accession Number: 20081031-0052.

Comment Date: 5 p.m. Eastern Time on Thursday, November 20, 2008.

Docket Numbers: ER09-167-000.

Applicants: Southern California Edison Company.

Description: Southern California Edison Co's annual update filing of the Transmission Revenue Balancing Account Adjustment.

Filed Date: 10/30/2008.

Accession Number: 20081031-0057.

Comment Date: 5 p.m. Eastern Time on Thursday, November 20, 2008.

Docket Numbers: ER09-170-000.

Applicants: American Transmission Company LLC.

Description: American Transmission Co., LLC submits an executed Distribution-Transmission Interconnection Agreement.

Filed Date: 10/30/2008.

Accession Number: 20081031-0169.

Comment Date: 5 p.m. Eastern Time on Thursday, November 20, 2008.

Docket Numbers: ER09-171-000.

Applicants: Southwest Power Pool, Inc.

Description: Southwest Power Pool, Inc. submits revised pages to its OATT to implement a rate change for the pricing zone.

Filed Date: 10/30/2008.

Accession Number: 20081031-0170.

Comment Date: 5 p.m. Eastern Time on Thursday, November 20, 2008.

Docket Numbers: ER09-175-000.

Applicants: Southwest Power Pool, Inc.

Description: Southwest Power Pool, Inc. submits revised pages to its OATT to implement a rate change for the pricing zone.

Filed Date: 10/30/2008.

Accession Number: 20081031-0171.

Comment Date: 5 p.m. Eastern Time on Thursday, November 20, 2008.

Docket Numbers: ER09-176-000.

Applicants: Allegheny Energy Supply Company, LLC.

Description: Allegheny Energy Supply Co., LLC submits a request for authorization to make wholesale power sales to an affiliate.

Filed Date: 10/30/2008.

Accession Number: 20081031-0175.

Comment Date: 5 p.m. Eastern Time on Thursday, November 20, 2008.

Docket Numbers: ER09-177-000.

Applicants: Atlantic Path 15, LLC.

Description: Atlantic Path 15, LLC submits Third Revised Sheet 16 et al. to FERC Electric Tariff, First Revised Volume 1, to be effective 1/1/09.

Filed Date: 10/31/2008.

Accession Number: 20081031-0172.

Comment Date: 5 p.m. Eastern Time on Friday, November 21, 2008.

Docket Numbers: ER09-178-000.

Applicants: Southern Company Services, Inc.

Description: Southern Company Services, Inc. et al. submit 2009 Annual Informational Filing under Southern Companies Open Access Transmission Tariff.

Filed Date: 10/31/2008.

Accession Number: 20081103-0079.

Comment Date: 5 p.m. Eastern Time on Friday, November 21, 2008.

Docket Numbers: ER09-179-000.

Applicants: Carolina Power & Light Company.

Description: Progress Energy Carolinas, Inc. submits a cost-based power purchaser agreement with The City of Camden, South Carolina.

Filed Date: 10/31/2008.

Accession Number: 20081103-0073.

Comment Date: 5 p.m. Eastern Time on Friday, November 21, 2008.

Docket Numbers: ER09-180-000.

Applicants: Southern Indiana Gas & Electric Company.

Description: Vectran Energy Delivery of Indiana, Inc. et al. submits revised tariff sheets with proposed revisions to Midwest ISO's Open Access Transmission and Energy Market Tariff, FERC Electric Tariff, Third Revised Volume 1.

Filed Date: 10/31/2008.

Accession Number: 20081103-0074.

Comment Date: 5 p.m. Eastern Time on Friday, November 21, 2008.

Docket Numbers: ER09-181-000.

Applicants: ISO New England Inc.

Description: ISO New England Inc. submits the budget funding the operation of the New England States Committee on Electricity for calendar year 2009 etc.

Filed Date: 10/31/2008.

Accession Number: 20081103-0075.

Comment Date: 5 p.m. Eastern Time on Friday, November 21, 2008.

Docket Numbers: ER09-182-000.

Applicants: Southern California Edison Company.

Description: Southern California Edison Company submits First Revised Sheet 54 et al. to Rate Schedule 424 to the Amended & Restated Eldorado System Conveyance and Co-Tenancy Agreement with Nevada Power Company et al.

Filed Date: 10/31/2008.

Accession Number: 20081103-0076.

Comment Date: 5 p.m. Eastern Time on Friday, November 21, 2008.

Docket Numbers: ER09-183-000.

Applicants: Entergy Services, Inc.

Description: Entergy Services, Inc. et al. submit the EAI-EGSL, EGS-ETI and EAI-EMI 2009 Bridge Contracts in pursuant to Service Schedule MSS-4 pursuant to the Commission approved formula rate in Service Schedule MSS-4.

Filed Date: 10/31/2008.

Accession Number: 20081103-0077.

Comment Date: 5 p.m. Eastern Time on Friday, November 21, 2008.

Docket Numbers: ER09-184-000.

Applicants: Entergy Services, Inc.

Description: Entergy Services, Inc. submits an executed Rate Schedule providing for cost-based power sales for partial requirements service to Municipal Energy Agency of Mississippi et al.

Filed Date: 10/31/2008.

Accession Number: 20081103-0078.

Comment Date: 5 p.m. Eastern Time on Friday, November 21, 2008.

Docket Numbers: ER09-186-000.

Applicants: Pacific Gas and Electric Company.

Description: Pacific Gas and Electric Co. submits their Twenty-Third Quarterly Filing of Facilities Agreement.

Filed Date: 10/31/2008.

Accession Number: 20081103-0085.

Comment Date: 5 p.m. Eastern Time on Friday, November 21, 2008.

Docket Numbers: ER09-187-000.

Applicants: Southern California Edison Company.

Description: Southern California Edison Company submits revisions to its Transmission Owner Tariff, FERC Electric Tariff, Second Revised Volume 6 which reflect proposed changes to its transmission revenue requirement etc.

Filed Date: 10/31/2008.

Accession Number: 20081103-0189.

Comment Date: 5 p.m. Eastern Time on Friday, November 21, 2008.

Take notice that the Commission received the following electric securities filings:

Docket Numbers: ES09-8-000.

Applicants: MDU Resources Group, Inc.

Description: MDU Resources Group, Inc submits the application for authority to issue short-term securities in the form of unsecured promissory notes and/or commercial paper, etc.

Filed Date: 10/30/2008.

Accession Number: 20081031-0063.

Comment Date: 5 p.m. Eastern Time on Thursday, November 20, 2008.

Docket Numbers: ES09-9-000.

Applicants: Potomac Edison Company.

Description: Potomac Edison Company Application Under Section 204 to Issue Short-Term Debt Securities.

Filed Date: 10/30/2008.

Accession Number: 20081030-5102.

Comment Date: 5 p.m. Eastern Time on Thursday, November 20, 2008.

Docket Numbers: ES09-10-000.

Applicants: Baltimore Gas and Electric Company.

Description: Application of Baltimore Gas and Electric Company for Short-Term Borrowing Authority.

Filed Date: 10/30/2008.

Accession Number: 20081030-5119.

Comment Date: 5 p.m. Eastern Time on Thursday, November 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-27022 Filed 11-13-08; 8:45 am]

BILLING CODE 6717-01-P